DEPARTMENT OF COMMERCE

National Oceanic and Atmospheric Administration

[RTID 0648-XE900]

Endangered and Threatened Species; Take of Anadromous Fish

AGENCY: National Marine Fisheries Service (NMFS), National Oceanic and Atmospheric Administration (NOAA), Commerce.

ACTION: Notice of availability.

SUMMARY: Notice is hereby given that the Washington Department of Fish and Wildlife (WDFW) and Oregon Department of Fish and Wildlife (ODFW) have provided Hatchery and Genetic Management Plans (HGMPs) pursuant to the protective regulations promulgated for Pacific salmon and steelhead under the Endangered Species Act (ESA). The HGMPs include the Big Creek Chum, Washougal winter steelhead (Skamania stock), Grays River Tule conservation, and the Abernathy Tule conservation programs. This document serves to notify the public of the availability of these HGMPs for comment prior to a decision by NMFS on whether to approve the proposed hatchery programs.

DATES: Comments must be received at the appropriate address (see ADDRESSES) no later than 5:00 p.m. Pacific time on June 6, 2025. Comments received after this date may not be considered.

ADDRESSES: Written responses to the addendum should be addressed to the NMFS Sustainable Fisheries Division, 1201 NE Lloyd Blvd., Suite 1100, Portland, OR 97232. Comments may be submitted by email. The mailbox address for providing email comments is: Hatcheries.Public.Comment@noaa.gov. Include in the subject line of the email comment the following identifier: Comments on Big Creek Chum, Washougal winter steelhead (Skamania stock), Grays River Tule conservation, and the Abernathy Tule conservation programs.

FOR FURTHER INFORMATION CONTACT: Natasha Preston at (503) 320-4997 or by email at natasha.preston@noaa.gov.

SUPPLEMENTARY INFORMATION:

Background

The HGMPs submitted by WDFW and ODFW include the Big Creek Chum, Washougal winter steelhead (Skamania stock), Grays River Tule conservation, and the Abernathy Tule conservation programs. The HGMPs were submitted to NMFS for review under ESA Limit 5 of the 4(d) Rule. The HGMPs describe broodstock collection, incubation, rearing, release, and monitoring and evaluation.

The Big Creek chum program was submitted by ODFW. It has a prior 4(d) authorization of producing 300k chum salmon. This HGMP is proposing a new goal of releasing 1,690,000 chum salmon. WDFW submitted the three conservation hatchery programs (Washougal winter steelhead, Grays River Tule, and Abernathy Tule), as part of the updated Mitchell Act Endangered Species Act (ESA) Section 7(a)(2) Biological Opinion and Magnuson-Stevens Fishery Conservation and Management Act Essential Fish Habitat (EFH) Consultation (2024). All HGMPs are designed to aid in conserving their populations across the Evolutionary Significant Unit and/or Distinct Population Segment range. The programs use adaptive management procedures and the best available science to reduce adverse genetic effects and lessen competition and predation impacts typically associated with salmon and steelhead hatchery programs.

Prior to approving an HGMP under limit 5 of the 4(d) Rule, NMFS must publish notification announcing the availability of the HGMP for public review and comment.

Authority: 16 U.S.C. 1531 et seq.; 16 U.S.C. 742a et seq.

Dated: April 30, 2025.
Kimberly Damon-Randall,
Director, Office of Protected Resources, National Marine Fisheries Service.

[FR Doc. 2025-07912 Filed 5-6-25; 8:45 am]

BILLING CODE 3510-22-P